DEPARTMENT OF EDUCATION

Applications for New Awards; Supplemental Support Under the American Rescue Plan

AGENCY: Office of Postsecondary Education, Department of Education.

ACTION: Notice.

SUMMARY: The Department of Education (Department) is issuing a notice announcing the availability of funds and the application deadline for new grants to institutions of higher education under the Higher Education Emergency Relief Fund (HEERF or HEERF III), Supplemental Support under the American Rescue Plan (SSARP) program, Assistance Listing Number (ALN) 84.425T. The SSARP program supports institutions of higher education (IHEs or institutions) with the greatest unmet needs related to the novel coronavirus 2019 pandemic (coronavirus or COVID-19).

DATES:

Applications available: February 3, 2022.

Deadline for transmittal of applications: April 4, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS number is available at www2.ed.gov/about/offices/list/ofo/docs/unique-entity-identifier-transition-fact-sheet.pdf.

FOR FURTHER INFORMATION CONTACT: Karen Epps, U.S. Department of Education, 400 Maryland Avenue SW, Room 2B133, Washington, DC 20202-6450. Telephone: (202) 377-3711. Email: HEERF@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The SSARP program supports public and private nonprofit IHEs that the Secretary determines have, after allocating other funds available under HEERF III, the greatest unmet needs related to the coronavirus, including institutions with large populations of graduate students and institutions that did not otherwise receive a HEERF allocation under the American Rescue Plan Act, 2021 (ARP).

Background: On March 11, 2021, the ARP (Pub. L. 117-2) was signed into law. ARP section 2003, as incorporating the Coronavirus Response and Relief Supplemental Appropriations Act, 2021 (CRRSAA) section 314(a)(3), requires the Secretary of Education to allocate 0.5 percent of HEERF III funding ($198 million) for discretionary grants under part B of title VII of the Higher Education Act of 1965, as amended (HEA), for public and private nonprofit IHEs that the Secretary determines have, after allocating other funds available under HEERF III, the greatest unmet needs related to coronavirus, including institutions with large populations of graduate students and institutions that did not otherwise receive an allocation under ARP. Proprietary institutions are not eligible for funding since eligibility is limited to those institutions that are eligible under part B of title VII of the HEA.

HEERF has been a critical lifeline to aid institutions in meeting urgent public health needs to prevent and respond to the Coronavirus pandemic, providing Emergency Financial Aid Grants to Students to support continued enrollment and learning, addressing student basic needs, providing mental health and other immediate support.

As institutions continue to address the immediate challenges brought on by the pandemic, the Department encourages institutions applying for the SSARP program to use the funding to support campuses and students in the following ways:

(1.) Covid-19 mitigation: ARP requires that institutions spend a portion of their HEERF grant funds to implement evidence-based practices to monitor and suppress coronavirus in accordance with public health guidelines. According to a recent survey of college presidents conducted by the American Council on Education, nearly 90 percent of institutions used HEERF to purchase COVID-19 tests, conduct health screening, and meet other urgent health needs.¹ The Department has heard from institutions of the importance of HEERF in implementing testing and contact tracing, purchasing PPE, HVAC, and other ventilation system improvements to prevent the spread of COVID-19, and in providing vaccine clinics and incentives, and the Department continues to encourage institutions to use HEERF grant funds in these ways.

¹ https://www.acenet.edu/Research-Insights/Pages/Senior-Leaders/Presidents-Survey-HEERF.aspx.

(2.) Addressing students' basic needs: HEERF provides broad flexibility to each institution to address specific student needs related to coronavirus. Many institutions have used HEERF to expand student support services for underserved students by covering the cost of childcare, expanding access to campus-based food pantries and meal programs, subsidizing on- and off-campus housing, providing transportation subsidies, and expanding campus health services and other mental health supports.

(3.) Support continued enrollment and re-enrollment: Community colleges and other institutions are facing significant enrollment declines, and as of January 2022 enrollment overall is estimated to have fallen by over 900,000 students since the beginning of the pandemic.² HEERF grant funds should be used to support continued enrollment and re-enrollment by providing additional emergency grant aid to students, subsidizing the cost of college to students, and providing additional student supports.

² https://nscresearchcenter.org/current-term-enrollment-estimates/.

(4.) Forgive institutional debts and end transcript withholding: Small sums of money owed on student account balances can derail enrollment, limit transfer, and restrict access to jobs and earning potential. Many institutions, including Historically Black Colleges and Universities (HBCUs), Tribal Colleges and Universities (TCUs), Minority-Serving Institutions (MSIs), and community colleges, have forgiven unpaid balances for students enrolled during the time of the coronavirus pandemic and taken steps to end transcript withholding, allowing students to move forward with subsequent opportunities.

(5.) Expanding programs that lead to in-demand high-quality jobs: HEERF has aided institutions in creating access to new programs that prepare students for high-quality jobs in demand, as a result of the coronavirus, that require specialized training and education.

Development of Institutional Eligibility Criteria for the SSARP program: To determine the types of institutions that would be funded under the statutory focus on “greatest unmet needs related to coronavirus,” the Department published a notice on May 11, 2021 on its ARP HEERF III website (www2.ed.gov/about/offices/list/ope/arpheerfiiia3proposednotice.pdf) that announced the Department's proposed institutional eligibility criteria for the SSARP program and invited public comment.

The Department accepted public comments from May 11 to May 25, 2021. The Department received comments from three entities representing institutions of higher education and trade associations supporting the Department's absolute priorities, inclusion of MSIs, and majority graduate institutions. Commenters suggested the Department broaden its proposed priorities in several ways. One commenter urged the Department to consider making awards to institutions that more recently gained eligibility as MSIs. Another commenter requested that we expand the use of funds beyond Emergency Financial Aid Grants to Students. Finally, one commenter requested that the Department include as eligible applicants IHEs with non-traditional academic programming that may have been underfunded under previous iterations of HEERF.

Although we appreciate the commenters' feedback on the proposed categories of eligible applicants, we believe the Department's proposed categories better reflect the intent of ARP section 2003 and the CRRSAA section 314(a)(3) to prioritize both institutions that would have otherwise received a HEERF allocation and providing Emergency Financial Aid Grants to Students. Accordingly, in this notice, we provide for five absolute priorities that represent separate funding categories for different categories of eligible applicants. In developing these absolute priorities, we have broadened the proposed categories of eligible applicants to better account for ways in which institutions may have been underfunded or have unmet needs related to coronavirus. In addition, in this notice, we establish the requirements an institution must meet to establish its eligibility under each of the five absolute priorities.

Priorities: This notice contains five absolute priorities. We are establishing these priorities for fiscal year (FY) 2022 grant competitions and any subsequent year in which we make awards from the list of unfunded applications from this competition, in accordance with section 437(d)(1) of the General Education Provisions Act (GEPA), 20 U.S.C. 1232(d)(1).

Absolute Priorities: These priorities are absolute priorities. Under 34 CFR 75.105(c)(3), we consider only applications that meet one or more of these priorities.

The Secretary intends to award grants under each of the absolute priorities. Applicants must clearly identify the absolute priority or priorities that the proposed project addresses in the SSARP Program Profile Information Form (Profile Form). Each applicant must submit only one application, but an applicant may apply to receive funds under multiple priorities.

In selecting grantees under the absolute priorities, the Department will fund each applicant according to the absolute priority or priorities under which it is applying. We will allocate funds under the allocation formula specific to the applicable priority or priorities. Should funding requests in approved applications exceed available funding under the ARP (a)(3) program, the Department reserves the right to make ratable reductions for any of the allocations under Absolute Priorities 1-3 and to determine the amount of funding needed to support each of the absolute priorities based on applications received. For Absolute Priorities 4 and 5, the Department may also prioritize awards to applicants that did not receive funding under priorities 6 and 7 in the Supplemental Assistance to Institutions of Higher Education (SAIHE) program,³ depending on the number of applications received.

³ The SAIHE program under CRRSAA HEERF (HEERF II) addressed institutions' unmet needs due to coronavirus. The Department announced awards under that program on July 29, 2021.

These priorities are:

Absolute Priority 1: Underfunded (a)(1) Grantees due to Technical Errors, Application Issues, or not Reporting in IPEDS:

Background: Under Absolute Priority 1, the Department will provide funding to institutions that did not receive CRRSAA (a)(1) funding because the applicant did not apply by the deadline or did not submit a complete application under the correct grants.gov funding opportunity number.

The Department will also fund institutions that could have been eligible to receive funding under ARP (a)(1) but did not receive an allocation because they did not report 2018/19 student data in the Integrated Postsecondary Education Data System (IPEDS), which were the data used in calculating the formula awards for ARP (a)(1).

Note: Institutions that were included on the ARP (a)(1) allocation table should not apply here. To accommodate institutions that missed the ARP (a)(1) application deadline, the Department is reopening the ARP (a)(1) application in a separate notice.

Absolute Priority 1: The Department invites applications from institutions that were underfunded under CRRSAA or ARP (a)(1) for any of the following reasons:

(a) The institution was identified within the Department's allocation table ⁴ as eligible to receive funding under the Coronavirus Response and Relief Supplemental Appropriations Act, 2021 (CRRSAA) (a)(1) but did not receive an award because the applicant did not apply by the deadline or did not submit a complete application under the correct grants.gov funding opportunity number.

(b) The institution could have been eligible to receive funding under ARP (a)(1) but did not receive an allocation because it did not report 2018/19 student data in the IPEDS, which are the data used in calculating the formula awards for ARP (a)(1).

Award Amounts: Under paragraph (a) of Absolute Priority 1(a), the funds will be allocated based on the allocations institutions were eligible to receive under CRRSAA, (a)(1). For Absolute Priority 1(b), allocations will be based on the formula methodology that was used for ARP (a)(1), except that the Department will use updated (2019-2020) IPEDS and FSA Pell Volume data. If institutions believe these data do not capture their need (e.g., they did not report to IPEDS their 2019-2020 enrollment), they may provide alternative data in the Profile Form.

Student Grant Minimum: A grantee under paragraph (a) of this priority must use its award to fund Emergency Financial Aid Grants to Students in the amount that would have been required had they received a CRRSAA (a)(1) award. A grantee under paragraph (b) of this priority must use its award to fund Emergency Financial Aid Grants to Students in the amount that would have been required had they received an ARP (a)(1) award.

Absolute Priority 2: MSI or Strengthening Institutions Program (SIP) Grantees that were Underfunded due to Technical Errors or Application Issues, are Newly Eligible, or are a Branch Campus:

Background: Under Absolute Priority 2, the Department invites institutions to apply that should have received funds but did not, or were underfunded, under MSI or SIP funding streams for several reasons.

Specifically, the Department intends to fund applicants that did not receive ARP(a)(2) funding but have gained new or additional eligibility for funds since the time the Department initially allocated ARP (a)(2) funding on May 11, 2021 through December 31, 2021, including through FY 21 grant competitions, or were a branch campus designated as eligible under titles III and V of the HEA according to the FY 2021 Eligibility Matrix but were not funded under ARP (a)(2) either directly or through their parent institutions because the Department did not have the requisite data to calculate their allocations. The Department also plans to fund institutions that did not receive an award under CRRSAA (a)(2) because the applicant did not successfully apply by the deadline or failed to submit a complete application under the correct funding opportunity number.

Note: Institutions that were included on the ARP (a)(2) allocation table but did not receive an award should not apply here. To accommodate these institutions, the Department plans to reopen the ARP (a)(2) application in a separate notice.

Absolute Priority 2: The Department invites applications from IHEs that should have received funds but did not, or were underfunded, under the HEERF (a)(2) MSI/SIP funding streams for any of the following reasons:

(a) The institution has gained new or additional eligibility for funds since the time the Department initially allocated ARP (a)(2) funding because the institution was:

(1) Previously designated as ineligible for ARP (a)(2) funds but has since been designated as eligible under titles III or V of the HEA through December 31, 2021; or

(2) Previously eligible under the MSI or SIP funding stream but is now eligible under one or more additional (a)(2)-MSI categories.

(b) The institution did not receive an award under CRRSAA (a)(2) because the institution did not successfully apply by the deadline, or because the institution failed to submit a complete application under the correct funding opportunity number.

(c) The institution was a branch campus designated as eligible under titles III and V of the HEA (according to the FY 2021 Eligibility Matrix) but was not funded under ARP(a)(2) either directly or through its parent institution because the Department did not have the requisite data to calculate its allocation.

Award Amounts: For Absolute Priority 2(a) and (c), the funds will be allocated based on the formula methodology in CRRSAA section 314(a)(2) that was used to calculate ARP (a)(2) MSI/SIP allocations. For institutions that were allocated funds under ARP(a)(2) SIP but that have been designated eligible as an MSI, the Department will calculate the award the institution would have received as an MSI and subtract the award the institution already received under SIP. For Absolute Priority 2(b), amounts will be based on the amounts allocated on the CRRSAA (a)(2) allocation tables.

Absolute Priority 3: Underfunded ARP (a)(1) Grantees due to an Institutional Merger or Change in Program Participation Agreement (PPA):

Background: Under Absolute Priority 3, the Department invites applications from institutions that can demonstrate their ARP (a)(1) allocation was underfunded or not funded because their student enrollment or Pell recipient total was undercounted due to an institutional merger not captured in their ARP (a)(1) allocation, or a recent change in their HEA Title IV PPA effective date resulting in the institution being underfunded due to the formula methodology used to calculate allocations under ARP(a)(1). An institution might be eligible under this Absolute Priority if it currently has a certified and approved PPA but did not have one during the 2018-19 award year.

Absolute Priority 3: The Department invites applications from institutions that can demonstrate their ARP (a)(1) allocation was underfunded or not funded because their student enrollment or Pell recipient total was undercounted due to—

(a) An institutional merger not captured in their ARP (a)(1) allocation; or

(b) A change in their HEA Title IV PPA effective date through December 31, 2021, resulting in the institution being underfunded due to the formula methodology used to calculate allocations under ARP (a)(1) award amounts.

Award Amounts: The funds will be allocated based on the ARP (a)(1) formula methodology, using updated (2019-2020) IPEDS and FSA Pell Volume data. Institutions that believe these data do not capture their need (e.g., they did not report 2019-2020 enrollment to IPEDS) may provide alternative data in the Profile Form. The Department will deduct any funds already received under ARP (a)(1) by the institutions in making awards.

Student Grant Minimum: A grantee under this priority must use its award to fund Emergency Financial Aid Grants to Students in the amount that would have been required had they received an ARP (a)(1) award.

Absolute Priority 4: Community Colleges and Rural IHEs Serving a High Percentage of Low-Income Students and Experiencing Enrollment Declines:

Background: The pandemic has disproportionately impacted low-income students and the community colleges that help serve those students. According to data from the U.S. Census Bureau Household Pulse Survey, the lowest-income households with at least one expected student enrolling in postsecondary education were three times more likely to cancel their enrollment plans entirely compared to the highest income households.⁵

⁵ Table 6, www.census.gov/data/tables/2021/demo/hhp/hhp27.html.

In response to these enrollment declines, under Absolute Priority 4, the Department invites applications from community colleges that serve a high percentage of low-income students and have experienced significant enrollment declines, and from IHEs located in rural settings that serve a high percentage of low-income students and have experienced significant enrollment declines.

Under this priority, the Department has set a minimum threshold for these institutions, both of which must be met to receive funds: (1) 50 percent or more of degree/certificate-seeking undergraduate students enrolled in Fall 2019 were Pell Grant recipients; and (2) a 4.5 percent or greater decline in student enrollment from Fall 2019 to Fall 2020. These percentages were set using data from IPEDS and represent the Department's attempt to prioritize institutions that have the greatest unmet needs.

Through this priority, the Department seeks to make awards to the identified categories of IHEs for the purposes of (1) providing additional financial aid to students to support their continued enrollment and re-enrollment in postsecondary education and (2) providing institutional funding that allows institutions to continue to support, engage, and reengage their students. Depending on the number of applications received, the Department may prioritize institutions that did not receive funds under the SAIHE program for the same priority.

Absolute Priority 4: The Department invites applications from community colleges, and IHEs located in rural settings, that—

(a) Had 50 percent or more of degree/certificate-seeking undergraduate students enrolled in Fall 2019 who were Pell Grant recipients; and

(b) Experienced a 4.5 percent or greater decline in student enrollment from Fall 2019 to Fall 2020.

Award amounts: Awards under this absolute priority will be based on each institution's relative share of Pell Grant recipients using FSA Pell Program volume data in 2019-2020. The per-Pell-recipient amount will be established after the Department receives all the applications under this priority.

Student Grant Minimum: A grantee under this priority must use at least 50 percent of its award for Emergency Financial Aid Grants to Students.

Note: The following campus settings will be considered rural: Town-Fringe, Town-Distant, Town-Remote, Rural Fringe, Rural-Distant, and Rural-Remote, as defined by the National Center for Education Statistics (NCES) College Navigator search tool. Applicants may look up individual campus locale settings at: https://nces.ed.gov/collegenavigator/.

Absolute Priority 5: Institutions Serving High Percentages of Graduate Students:

Background: Finally, the Department is establishing Absolute Priority 5 to provide additional support to institutions with high percentages of graduate students. Congress specified in section 2003(a)(3) of the ARP that, in allocating funds to institutions with the greatest unmet need due to the coronavirus, the Department should consider institutions with large populations of graduate students. Accordingly, under this priority, the Department is awarding funds to eligible institutions for which graduate students comprise 90 percent or more of their student population according to Fall 2020 enrollment data provided in IPEDS. This threshold of 90 percent reflects the Department's goal of targeting funds to institutions with large graduate populations since the weighing of the main ARP formula toward Pell recipients meant that these institutions did not receive sufficient awards relative to the size of their student body. However, because some standalone graduate schools may have small undergraduate offerings, we have chosen 90 percent as a threshold to ensure we do not exclude a college that is primarily a graduate institution, but which also serves a limited number of undergraduate students. Depending on the number of applications received, the Department may prioritize institutions that did not receive funds under SAIHE.

Absolute Priority 5: The Department invites applications from eligible institutions for which graduate students comprise 90 percent or more of their student population according to Fall 2020 enrollment data provided in IPEDS.

Award amounts: For Absolute Priority 5, the Department will use the number of graduate students enrolled at the institution as reported in IPEDS (using Fall 2020 enrollment) to calculate the allocation.

Student Grant Minimum: Grantees under this priority must use all funds awarded to make Emergency Financial Aid Grants to graduate Students.

Definitions: For the FY 2022 grant competition we are establishing the following definitions of “community college” and “Minority Serving Institution,” in accordance with section 437(d)(1) of GEPA, 20 U.S.C. 1232(d)(1).

Community college means an institution that meets the definition in section 312(f) of the HEA (20 U.S.C. 1058(f)) or an IHE (as defined in section 101 of the HEA) that awards degrees and certificates, more than 50 percent of which are not bachelor's degrees (or an equivalent) or master's, professional, or other advanced degrees.

Minority-Serving Institution means an institution that is eligible to receive assistance under sections 316 through 320 of part A of title III, under part B of title III, or under title V of the HEA.

Waiver of Proposed Rulemaking: Under the Administrative Procedure Act (5 U.S.C. 553), the Department generally offers interested parties the opportunity to comment on proposed priorities and definitions. Section 437(d)(1) of GEPA, however, allows the Secretary to exempt from rulemaking requirements regulations governing the first grant competition under a new or substantially revised program authority. This is the first grant competition for this program under section 2003 of ARP, as incorporating CRRSAA section 314(a)(3), and therefore qualifies for this exemption. In order to ensure timely grant awards, the Secretary has decided to forgo formal public comment under the Administrative Procedure Act on the priorities and definitions under section 437(d)(1) of GEPA. These priorities and definitions will apply to the FY 2022 grant competition and any subsequent year in which we make awards from the list of unfunded applications from this competition.

Program Authority: CRRSAA section 314(a)(3) and ARP section 2003.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grants.

Estimated Available Funds: $197,922,850.

Estimated Award Amounts and Number of Awards: The award amounts will depend on the absolute priority or priorities under which an institution is applying. The award amounts and number of awards will also depend on the number of applications received under each priority. At the time at which we make awards, the Department will post an allocation table with award amounts and amounts subject to the use-of-funds restrictions under the applicable priorities. See the Absolute Priorities section of this notice for more information.

Should requests for funding exceed the amount available under the ARP (a)(3) program, the Department reserves the right to make ratable reductions for any awards under Absolute Priorities 1-3 and to determine the amount of funding needed to support each of the absolute priorities based on applications received. For Absolute Priorities 4 and 5, the Department may prioritize awards to applicants that did not receive funding under SAIHE, depending on the number of applications received.

In making awards under Absolute Priority 4, the Department may also give priority to eligible applicants in the following order:

Tier 1: Community colleges; and

Tier 2: Other public and private nonprofit IHEs in rural settings.

Depending on the funds available for this absolute priority, some applicants may not be funded based on tier rankings. An IHE must complete Section 5 of the Profile form for this absolute priority.

Project Period: Up to 12 months.

Note: The Department is not bound by any estimates in this notice.

III. Eligibility Information

1. Eligible Applicants: Eligible applicants are IHEs (as defined in section 101 of the HEA (20 U.S.C. 1001)) that are public or private non-profit IHEs that meet the eligibility requirements specified in the absolute priority or priorities under which the applicant applies. With the exception of Absolute Priority 2(c), institutional eligibility is based on the six-digit OPEID.

2. Cost Sharing or Matching: This program does not require cost sharing or matching.

3. Subgrantees: A grantee under this competition may not award subgrants to entities to directly carry out project activities described in its application.

4. Uses of Funds: Unless noted otherwise, in accordance with section 2003 of the ARP, grantees may use these grant funds for their institutional costs to defray expenses associated with coronavirus (including lost revenue, reimbursement for expenses already incurred, technology costs associated with a transition to distance education, faculty and staff trainings, and payroll); and to make additional Emergency Financial Grants to Students, which may be used for any component of the student's cost of attendance or for emergency costs that arise due to coronavirus, such as tuition, food, housing, health care (including mental health care), and child care.

Additionally, no funds received by an IHE under this section may be used to fund contractors for the provision of pre-enrollment recruitment activities; marketing or recruitment; endowments; capital outlays associated with facilities related to athletics, sectarian instruction, or religious worship; senior administrator or executive salaries, benefits, bonuses, contracts, incentives; stock buybacks, shareholder dividends, capital distributions, and stock options; or any other cash or other benefit for a senior administrator or executive.

Furthermore, in accordance with ARP section 2003(5), an institution that has not previously received ARP (a)(1) or (a)(2) funding must use a portion of funds received under any of the absolute priorities in this competition to (A) implement evidence-based practices to monitor and suppress coronavirus in accordance with public health guidelines; and (B) conduct direct outreach to financial aid applicants about the opportunity to receive a financial aid adjustment due to the recent unemployment of a family member or independent student, or other circumstances, described in section 479A.

Finally, grantees under certain priorities are required to expend a certain percentage of funds on Emergency Financial Aid Grants to Students. The Department will publish an ARP (a)(3) allocation table will identify the minimum amount that each institution must spend on Emergency Financial Aid Grants to Students amounts at the time of award.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from applicants using a DUNS Number to the Unique Entity Identifier (UEI). More information on the phase-out of the DUNS Number is available here: www2.ed.gov/about/offices/list/ofo/docs/unique-entity-identifier-transition-fact-sheet.pdf.

2. Intergovernmental Review: This competition is subject to Executive Order 12372 and the regulations in 34 CFR part 79. However, under 34 CFR 79.8(a), we waive intergovernmental review in order to make awards in a timely manner.

3. Funding Restrictions: We reference regulations outlining funding restrictions in the Applicable Regulations sections of this notice. We describe requirements relating to the uses of funds, including funding restrictions, under this program in the Uses of Funds section of this notice.

4. Recommended Page Limit: The application for this program includes the Standard Form 424, the Certificate and Agreement, and the SSARP Program Profile Information Form. The project narrative form in grants.gov is where you, the applicant, will include the Certificate and Agreement for this program and the SSARP Program Profile Information Form.

5. Program Profile Information Form: Applicants must complete the Program Profile Information Form and submit the form under the program narrative form in grants.gov.

V. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, the Department has waived the peer review process for this program. Department staff will review eligible applications using the criteria specified in the applicable absolute priority or priorities.

2. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

4. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, the individuals listed as the Authorizing Representative and Director will receive a Grant Award Notification (GAN); or we may send you an email containing a link to access an electronic version of your GAN.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) Institutions receiving a grant under this program must report their expenditures using the HEERF Public Quarterly Reporting Form and the HEERF Annual Report. More information is available at www2.ed.gov/about/offices/list/ope/heerfreporting.html.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Michelle Asha Cooper,
Deputy Assistant Secretary for Higher Education Programs, Delegated the Authority to Perform the Functions and Duties of the Assistant Secretary, Office of Postsecondary Education.

[FR Doc. 2022-02338 Filed 2-2-22; 8:45 am]

BILLING CODE 4000-01-P